ENVIRONMENTAL PROTECTION AGENCY

40 CFR Part 60

[EPA-HQ-OAR-2010-0873; FRL-9653-3]

RIN 2060-AH23

Quality Assurance Requirements for Continuous Opacity Monitoring Systems at Stationary Sources

AGENCY: Environmental Protection Agency (EPA).

ACTION: Withdrawal of direct final rule.

SUMMARY: The EPA published a direct final rule titled “Quality Assurance Requirements for Continuous Opacity Monitoring Systems at Stationary Sources” in the Federal Register on February 14, 2012. Because we received adverse comments to the parallel proposed rule issued under the same name on February 14, 2012, we are withdrawing the direct final rule.

DATES: As of March 28, 2012, the EPA withdraws the direct final rule published on February 14, 2012 (77 FR 8160).

ADDRESSES: The EPA has established a docket for this action under Docket ID No. EPA-HQ-OAR-2010-0873. All documents in the docket are listed on the http://wwww.regulations.gov Web site. Although listed in the index, some information is not publicly available, e.g., Confidential Business Information or other information whose disclosure is restricted by statute. Certain other material, such as copyrighted material, will be publicly available only in hard copy. Publicly available docket materials are available either electronically in www.regulations.gov or in hard copy at the Procedure 3—Quality Assurance Requirements for Continuous Opacity Monitoring Systems at Stationary Sources Docket, EPA/DC, EPA West, Room 3334, 1301 Constitution Ave. NW., Washington, DC. The Docket Facility and Public Reading Room are open from 8:30 a.m. to 4:30 p.m., Monday through Friday, excluding legal holidays. The telephone number for the Air Docket is (202) 566-1742, and the telephone number for the Public Reading Room is (202) 566-1744.

FOR FURTHER INFORMATION CONTACT: Ms. Lula H. Melton, U.S. EPA, Office of Air Quality Planning and Standards, Air Quality Assessment Division, Measurement Technology Group (Mail Code: E143-02), Research Triangle Park, NC 27711; telephone number: (919) 541-2910; fax number: (919) 541-0516; email address: melton.lula@epa.gov.

SUPPLEMENTARY INFORMATION: The EPA issued “Quality Assurance Requirements for Continuous Opacity Monitoring Systems at Stationary Sources” as a direct final rule in the Federal Register on February 14, 2012 (77 FR 8160). The EPA issued a parallel proposed rule under the same name on February 14, 2012 (77 FR 8209). We stated in the direct final rule that if we received adverse comments to the parallel proposed rule, we would publish a timely notice of withdrawal of the direct final rule in the Federal Register. We received adverse comments on the proposed rule and are consequently withdrawing the “Quality Assurance Requirements for Continuous Opacity Monitoring Systems at Stationary Sources” published as a direct final rule in the Federal Register on February 14, 2012.

Dated: March 21, 2012.
Gina McCarthy,
Assistant Administrator.

[FR Doc. 2012-7487 Filed 3-27-12; 8:45 am]

BILLING CODE 6560-50-P